DEPARTMENT OF TRANSPORTATION

Office of the Secretary

Aviation Proceedings, Agreements Filed During the Week Ending April 28, 2000

The following Agreements were filed with the Department of Transportation under the provisions of 49 U.S.C. 412 and 414. Answers may be filed within 21 days after the filing of the application.

Docket Number: OST-2000-7289.

Date Filed: April 26, 2000.

Parties: Members of the International Air Transport Association.

Subject: CBPP/5/Reso/003/99 dated September 8, 1999

Finally Adopted Resos & Recommended Practices r1-3

Minutes—CBPP/5/Meet r-1-600a r-2-606 r-3-RP1600d

Intended effective date: November 17, 1999.

Docket Number: OST-2000-7313.

Date Filed: April 27, 2000.

Parties: Members of the International Air Transport Association.

Subject: Mail Vote 075 Resolution 002

TC1/TC12 USA/US Territories—Austria, Belgium, Chile, Germany, Italy, Netherlands, Scandinavia, Switzerland Standard Revalidating/Adopting/Amending Resolution

Intended effective date: 1 October 2000.

Docket Number: OST-2000-7314.

Date Filed: April 27, 2000.

Parties: Members of the International Air Transport Association.

Subject: PTC2 EUR 0307 dated 18 April 2000 TC2 Within Europe Expedited Resolution 002d

Intended effective date: 15 May 2000.

Andrea M. Jenkins,
Federal Register Liaison.

[FR Doc. 00-11691 Filed 5-9-00; 8:45 am]

BILLING CODE 4910-62-P